DEPARTMENT OF ENERGY

Federal Energy Regulatory Commission

[Docket No. RD25-10-000]

Commission Information Collection Activities (FERC-725t, 725z, 725l, 725g, 725a and 725x); Comment Request; Revision

AGENCY: Federal Energy Regulatory Commission.

ACTION: Notice of information collection and request for comments.

SUMMARY: In compliance with the requirements of the Paperwork Reduction Act of 1995, the Federal Energy Regulatory Commission (Commission or FERC) is soliciting public comment on the currently approved information collection, FERC-725T_BAL-001-TRE (Primary Frequency Response in the ERCOT Region), FERC-725Z_IRO-010-5 (Reliability Coordinator Data and information Specification and Collection), FERC-725L_MOD-032-1 (Data for Power System Modeling and Analysis), FERC-725G_PRC-012-2 (Remedial Action Schemes), FERC-725G_PRC-017-1 (Remedial Action Scheme Maintenance and Testing), FERC-725A_TOP-003-6.1 (Transmission Operator and Balancing Authority Data and Information Specification and Collection), FERC-725X_VAR-001-5 (Voltage and Reactive Control), FERC-725X_VAR-002-4.1 (Generator Operation for Maintaining Network Voltage Schedules) (Mandatory Reliability Standards for category 2 generator owners and generator operators). There are anticipated changes in the reporting requirements for this information collection for each of the eight standards.

DATES: Comments on the collection of information are due February 20, 2026.

ADDRESSES: Please submit comments via email to DataClearance@FERC.gov. You must specify the Docket No. (RD25-10-000) and the FERC Information Collection number (FERC-725T, 725Z, 725L, 725G, 725A and 725X) in your email. If you are unable to file electronically, comments may be filed by USPS mail or by hand (including courier) delivery:

• Mail via U.S. Postal Service only, addressed to: Federal Energy Regulatory Commission, Secretary of the Commission, 888 First Street NE, Washington, DC 20426.

• Hand (including courier) delivery to: Federal Energy Regulatory Commission, 12225 Wilkins Avenue, Rockville, MD 20852.

Docket: To view comments and issuances in this docket, please visit https://elibrary.ferc.gov/eLibrary/search. Once there, you can also sign-up for automatic notification of activity in this docket.

FOR FURTHER INFORMATION CONTACT: Kayla Williams, (202) 502-6468. DataClearance@FERC.gov.

SUPPLEMENTARY INFORMATION:

Title: FERC-725T, 725Z, 725L, 725G, 725A, 725X-FERC-725T_BAL-001-TRE (Primary Frequency Response in the ERCOT Region), FERC-725Z_IRO-010-5 (Reliability Coordinator Data and information Specification and Collection), FERC-725L_MOD-032-1 (Data for Power System Modeling and Analysis), FERC-725G_PRC-012-2 (Remedial Action Schemes), FERC-725G_PRC-017-1 (Remedial Action Scheme Maintenance and Testing), FERC-725A_TOP-003-6.1 (Transmission Operator and Balancing Authority Data and Information Specification and Collection), FERC-725X_VAR-001-5 (Voltage and Reactive Control), FERC-725X_VAR-002-4.1 (Generator Operation for Maintaining Network Voltage Schedules).

OMB Control No.: 1902-0273 (725T), 1902-0276 (725Z), 1902-0261 (725L), 1902-0252 (725G), 1902-0244 (725A), 1902-0278 (725X).

Type of Request: Update information collection requirements with changes to the current reporting requirements.

Abstract: Section 215 of the FPA provides that the Commission may certify an Electric Reliability Organization (ERO), the purpose of which is to develop mandatory and enforceable Reliability Standards, subject to Commission review and approval.¹ Reliability Standards may be enforced by the ERO, subject to Commission oversight, or by the Commission independently.² Pursuant to section 215 of the FPA, the Commission established a process to select and certify an ERO,³ and subsequently certified NERC.⁴

¹ 16 U.S.C. 824o(c).

² Id. 824o(e).

³ Rules Concerning Certification of the Elec. Reliability Org.; & Procs. for the Establishment, Approval, & Enf't of Elec. Reliability Standards, Order No. 672, 71 FR 8662 (Feb. 17, 2006), 114 FERC ¶ 61,104, order on reh'g, Order No. 672-A, 71 FR19814 (Apr. 18, 2006), 114 FERC ¶ 61,328 (2006); see also 18 CFR 39.4(b).

⁴ N. Am. Elec. Reliability Corp., 116 FERC ¶ 61,062, order on reh'g and compliance, 117 FERC ¶ 61,126 (2006), aff'd sub nom. Alcoa, Inc. v. FERC, 564 F.3d 1342 (D.C. Cir. 2009) (Certification Order).

On October 1, 2025, in Docket No. RD25-10, the Commission approved NERC's filing of a petition seeking approval of two revised NERC definitions, generator owner and generator operator as “to align the definitions of the Generator Owner and Generator Operator terms in the NERC Glossary with the recently revised Generator Owner and Generator Operator registration functions in the NERC Rules of Procedure Statement of Compliance Registry Criteria,” ⁵ approved by the Commission in Docket No. RR24-2-000 on June 27, 2024.⁶ The terms generator owner and generator operator now include non-bulk electric system (BES) inverter-based resources (IBR) that either have or contribute to an aggregate nameplate capacity of greater than or equal to 20 MVA, connected through a system designed primarily for delivering such capacity to a common point of connection at a voltage greater than or equal to 60 kV (category 2). Consequently, the new definitions in the Glossary of Terms Used in NERC Reliability Standards (NERC Glossary) will impose paperwork burdens on category 2 generator owners and generator operators that will now need to comply with applicable Reliability Standards.

⁵ NERC Petition at 4.

⁶ Order on Approving Revisions to N. Am. Elec. Reliability Corp. Rules of Proc. & Requiring Compliance Filing, 187 FERC ¶ 61,196 (June 27, 2024).

The approved revision to the definition of generator owner in the NERC Glossary is: ⁷

⁷ NERC Petition at 3.

The entity that: (1) owns and maintains generating Facility(ies) (Category 1 GO); or (2) owns and maintains non-BES Inverter-Based Resource(s) that either have or contribute to an aggregate nameplate capacity of greater than or equal to 20 MVA, connected through a system designed primarily for delivering such capacity to a common point of connection at a voltage greater than or equal to 60 kV (Category 2 GO).

The approved revision to the definition of generator operator in the NERC Glossary is: ⁸

⁸ NERC Petition at 3-4.

The entity that: (1) operates generating Facility(ies) and performs the functions of supplying energy and Interconnected Operations Services (Category 1 GOP); or (2) operates non-BES Inverter-Based Resource(s) that either have or contribute to an aggregate nameplate capacity of greater than or equal to 20 MVA, connected through a system designed primarily for delivering such capacity to a common point of connection at a voltage greater than or equal to 60 kV (Category 2 GOP).

As a result of the inclusion of category 2 resources in the NERC Glossary, applicable responsible entities will have to comply with reporting requirements for this information collection for each of the eight reliability standards included in NERC's implementation plan associated with Docket No. RD25-10. The eight applicable Reliability Standards are: BAL-001-TRE-2; IRO-010-5; MOD-032-1; PRC-012-2; PRC-017-1; TOP-003-6.1; VAR-001-5; and VAR-002-4.1.

Reliability Standard BAL-001-TRE-2 is currently located in the FERC-725T (OMB Control No. 1902-0273) collection. The purpose of Reliability Standard BAL-001-TRE-2 is to maintain interconnection steady-state frequency within defined limits. The category 2 generator owners and generator operators will now have to follow Requirements R6 through R10. Requirements R6, R7, R9, and R10 require the generator owner to set their governor parameters to be responsive to frequency obligations and provide notification to other entities when their governor is unavailable. Requirement R8 requires generator operators notify their balancing authority of service status changes.

Reliability Standard IRO-010-5 is currently located in the FERC-725Z (OMB Control No. 1902-0276) collection. The purpose of the standard is to prevent instability, uncontrolled separation, or cascading outages that adversely impact reliability by ensuring each reliability coordinator has the data and information it needs to plan, monitor and assess the operation of its reliability coordinator area. The category 2 generator owners and operators will now have to meet Requirement R3 that requires the generator owners and generator operators to satisfy the obligations of the documented specifications from the reliability coordinator on data and information needed for the operational planning analyses, real-time monitoring, and real-time assessments. Reliability Standard MOD-032-1 is currently located in the FERC-725L (OMB Control No. 1902-0261) collection. The purpose of the standard is to establish consistent modeling data requirements and reporting procedures for development of planning horizon cases necessary to support analysis of the reliability of the interconnected transmission system. The category 2 generator owners will now have to follow Requirements R2 and R3 that require generator owners provide modeling data to and address any concerns raised by the planning coordinator or transmission planner.

Reliability Standards PRC-012-2 and PRC-017-1 are currently located in the FERC-725G (OMB Control No. 1902-0252) collection. The purpose of PRC-012-2 is to ensure that remedial action schemes (RAS) do not introduce unintentional or unacceptable reliability risks to the BES. The stated purpose of Reliability Standard PRC-017-1 is to ensure that all RAS are properly designed, meet performance requirements, and are coordinated with other protection systems and to ensure that maintenance and testing programs are developed and misoperations are analyzed and corrected. The category 2 generator owners, that are part of a RAS, will now have to follow Requirements R1, R3, and R5 through R8 in Reliability Standard PRC-012-2 and Requirements R1 and R2 in Reliability Standard PRC-017-1. Specifically, Reliability Standard PRC-012-2 requires that generator owners that own all or part of a RAS to review and provide information to their reliability coordinator in R1 and R3; and to test, analyze performance, and take corrective action, if needed, in Requirements R5 through R8. Requirements R1 and R2 of Reliability Standard PRC-017-1 require generator owners that own a RAS to maintain and document a system maintenance and testing program.

Reliability Standard TOP-003-6.1 is currently located in the FERC-725A (OMB Control No. 1902-0244) collection. The purpose of this standard is to ensure that each transmission operator and balancing authority has the data and information it needs to plan, monitor, and assess the operation of its transmission operator area or balancing authority area. The category 2 generator owners and generator operators will now have to follow Requirement R5, which requires generator owners and generator operators to satisfy the obligations of the documented specifications of data and information related to operational planning analyses, real-time monitoring, and real-time assessments provided by the transmission operator or balancing authority.

Reliability Standards VAR-001-5 and VAR-002-4.1 are currently located in the FERC-725X (OMB Control No. 1902-0278) collection. The purpose of Reliability Standard VAR-001-5 is to ensure that voltage levels, reactive flows, and reactive resources are monitored, controlled, and maintained within limits in real-time to protect equipment and the reliable operation of the interconnection. The purpose of Reliability Standard VAR-002-4.1 is to ensure generators provide reactive support and voltage control, within generating facility capabilities, in order to protect equipment and maintain reliable operation of the interconnection. The category 2 generator owners in Western Electricity Coordinating Council (WECC) will now have to follow Requirements E.A.15 and E.A.17 in Reliability Standard VAR-001-5. The category 2 generator operators will now have to follow Reliability Standard VAR-002-4.1, Requirements R1 through 4 and the category 2 generator owners will now have to follow Requirements R5 and R6. Specifically, Requirements E.A.15 and E.A. 17 require generator operators in WECC to provide voltage set point conversion methodologies to its transmission operator and to meet control loop specifications. Requirements R1 through 4 of Reliability Standard VAR-002-4.1 require the generator operators to operate their generators in automatic voltage control mode, maintain voltage schedules, and to notify their transmission operator in the event of a change. Requirements R5 and R6 require the generator owner to provide data and tap settings information to their transmission operator and transmission planner and to ensure transformer tap positions are changed according to the specifications provided by the transmission operator.

Type of Respondents: Generator owners and generator operator entities registered with NERC that own or operate category 2 resources.

Estimate of Annual Burden: ⁹ The applicable requirements from the eight applicable Reliability Standards largely consist of sharing and communicating readily available data and information for category 2 resources. Thus, Commission staff anticipates that the paperwork burden should be minimal for category 2 resources. The number of respondents, in the tables below, are based on good faith estimates provided by NERC, in August 2025, to Commission staff for the number of entities that either own or operate category 2 resources.

⁹ “Burden” is defined as the total time, effort, or financial resources expended by persons to generate, maintain, retain, or disclose or provide information to or for a Federal agency. For further explanation of what is included in the information collection burden, see 5 CFR 1320.3.

The Commission estimates the annual reporting burden and cost for the information collection as:

FERC-725T—Mandatory Reliability Standard for the TRE-BAL
| Number of respondents ¹⁰ | Annual number of responses per respondent | Total number of responses | Average burden & cost per response ¹¹ | Total annual burden hours & total annual cost | Cost per respondent ($)
| (1) | (2) | (1) * (2) = (3) | (4) | (3) * (4) = (5) | (5) ÷ (1)
BAL-001-TRE-2 Annual Review and Record Retention | 30 (GO) 23 (GOP) | 1 1 | 30 23 | 8 hrs.; $508.16 4 hrs.; $254.08 | 240 hrs.; $15,244.80 92 hrs.; $5,843.84 | $508.16 254.08
Total |  |  | 53 |  | 332 hrs.; $21,088.64 | 762.24

FERC-725Z—Mandatory Reliability Standard for the IRO
| Number of respondents ¹² | Annual number of responses per respondent | Total number of responses | Average burden & cost per response ¹³ | Total annual burden hours & total annual cost | Cost per respondent ($)
| (1) | (2) | (1) * (2) = (3) | (4) | (3) * (4) = (5) | (5) ÷ (1)
IRO-010-5 Annual Review and Record Retention | 491(GO) 310 (GOP) | 1 1 | 491 310 | 8 hrs.; $508.16 8 hrs.; $508.16 | 3,928 hrs.; $249,506.56 2,480 hrs.; $157,529.60 | $508.16 508.16
Total |  |  | 801 |  | 6,408 hrs.; $407,036.10 | 1,016.32

FERC-725L—Mandatory Reliability Standard for the MOD
| Number of respondents ¹⁴ | Annual number of responses per respondent | Total number of responses | Average burden & cost per response ¹⁵ | Total annual burden hours & total annual cost | Cost per respondent ($)
| (1) | (2) | (1) * (2) = (3) | (4) | (3) * (4) = (5) | (5) ÷ (1)
MOD-032-1 Annual Review and Record Retention | 491 (GO) | 1 | 491 | 20 hrs.; $1,270.40 | 9,820 hrs.; $623,766.40 | $1,270.40
Total |  |  | 491 |  | 9,820 hrs.; $623,766.40 | 1,270.40

FERC-725G—Mandatory Reliability Standard for the PRC
| Number of respondents ¹⁶ | Annual number of responses per respondent | Total number of responses | Average burden & cost per response ¹⁷ | Total annual burden hours & total annual cost | Cost per respondent ($)
| (1) | (2) | (1) * (2) = (3) | (4) | (3) * (4) = (5) | (5)÷(1)
PRC-012-2 Annual Review and Record Retention | 491 (GO) | 1 | 491 | 40 hrs.; $2,540.80 | 19,640 hrs.; $1,247,532.80 | $2,540.80
PRC-017-1 Annual Review and Record Retention | 491 (GO) | 1 | 491 | 40 hrs.; $2,540.80 | 19,640 hrs.; $1,247,532.80 | 2,540.80
Total |  |  | 982 |  | 39,280 hrs.; $2,495,065.60 | 5,081.60

FERC-725A—Mandatory Reliability Standard for the TOP
| Number of respondents ¹⁸ | Annual number of responses per respondent | Total number of responses | Average burden & cost per response ¹⁹ | Total annual burden hours & total annual cost | Cost per respondent ($)
| (1) | (2) | (1) * (2) = (3) | (4) | (3) * (4) = (5) | (5)÷(1)
TOP-003-6.1 Annual Review and Record Retention | 491 (GO) 310 (GOP) | 1 1 | 491 310 | 8 hrs.; $508.16 8 hrs.; $508.16 | 3,928 hrs.; $249,506.56 2,480 hrs.; $157,529.6 | $508.16 508.16
Total |  |  | 801 |  | 6,408 hrs.; $407,036.16 | 1,016.32

FERC-725X—Mandatory Reliability Standard for the VAR
| Number of respondents ²⁰ | Annual number of responses per respondent | Total number of responses | Average burden & cost per response ²¹ | Total annual burden hours & total annual cost | Cost per respondent ($)
| (1) | (2) | (1) * (2) = (3) | (4) | (3) * (4) = (5) | (5)÷(1)
VAR-001-5 Annual Review and Record Retention | 491 (GO) 310 (GOP) | 1 1 | 491 310 | 8 hrs.; $508.16 8 hrs.; $508.16 | 3,928 hrs.; $249,506.56 2,480 hrs.; $157,529.60 | $508.16 508.16
VAR-002-4.1 Annual Review and Record Retention | 491 (GO) 310 (GOP) | 1 1 | 391 310 | 8 hrs.; $508.16 8 hrs.; $508.16 | 3,928 hrs.; $249,506.56 2,480 hrs.; $157,529.60 | $508.16 508.16
Total |  |  |  |  | 12,816 hrs.; $814,072.32 | 2,032.64

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

¹⁰ The numbers for respondents were derived from the NERC's identification of category 2 generator owners and generator operators registered entities in the United States to Commission staff in August 2025.

¹¹ The estimated hourly cost (salary plus benefits) is a combination of the following categories from the Bureau of Labor Statistics (BLS) website, May 2024 http://www.bls.gov/oes/current/naics2_22.htm: 75% of the average of an Electrical Engineer (17−2071) $71.19/hr., × .75 = 53.3925 ($53.39-rounded) ($53.39/hour); and 25% of an Information and Record Clerk (43−4199) $40.51/hr., $40.51 × .25 = 10.1275 ($10.13 rounded) ($10.13/hour), for a total ($53.39 + $10.13 = $63.52/hour).

¹² See note 10.

¹³ See note 11.

¹⁴ See note 10.

¹⁵ See note 11.

¹⁶ See note 10.

¹⁷ See note 11.

¹⁸ See note 10.

¹⁹ See note 11.

²⁰ See note 10.

²¹ See note 11.

Dated: December 17, 2025.
Carlos D. Clay,
Deputy Secretary.

[FR Doc. 2025-23560 Filed 12-19-25; 8:45 am]

BILLING CODE 6717-01-P